DEPARTMENT OF HEALTH AND HUMAN SERVICES

Agency for Healthcare Research and Quality

Agency Information Collection Activities: Proposed Collection; Comment Request

AGENCY: Agency for Healthcare Research and Quality, Department of Health and Human Services.

ACTION: Notice.

SUMMARY: This notice announces the intention of the Agency for Healthcare Research and Quality (AHRQ) to request that the Office of Management and Budget (OMB) allow the proposed information collection project: “Assessment of Unreimbursed Care among Community Primary Care Physicians.” In accordance with the Paperwork Reduction Act of 1995, Public Law 104-13 (44 U.S.C. 3506(c)(2)(A)), AHRQ invites the public to comment on this proposed information collection.

DATES: Comments on this notice must be received by October 2, 2006.

ADDRESSES: Written comments should be submitted to: Doris Lefkowitz, Reports Clearance Officer, AHRQ, 540 Gaither Road, Room #5036, Rockville, MD 20850.

Copies of the proposed collection plans, data collection instruments, and specific details on the estimated burden can be obtained from AHRQ's Reports Clearance Officer.

FOR FURTHER INFORMATION CONTACT: Doris Lefkowitz, AHRQ, Reports Clearance Officer, (301) 427-1477.

SUPPLEMENTARY INFORMATION:

Proposed Project

“Assessment of Un-reimbursed Care among Community Primary Care Physicians”

This project is being conducted as part of AHRQ's Primary Care Practice-Based Research Networks (PBRN). One of AHRQ's PBRN contractors, the American Academy of Family Physicians' National Research Network (AAFP-NRN), will survey primary care practices participating in its PBRN in order to assess the current state of unreimbursed medical care provided in community based primary care practices.

There has been substantial research conducted to quantify the amount of un-reimbursed care provided in private physicians' offices. This survey will collect information from a sample of community-based primary care practices that are widely representative of private physicians across the United States in order to understand the current state of private primary care office un-reimbursed care and help assess factors that encourage and discourage practices from engaging in this activity.

The AAFP-NRN will collaborate with AHRQ on the design of a self-administered, web-based questionnaire. The survey will collect information pertaining to the level of unreimbursed care in the practice as well as characteristics of the practice, the physician(s) and the patient population.

Methods of Collection

The survey will be distributed to 800 primary care physicians with an expected response rate of 75% (600 responses). A stratified sampling approach will be used to ensure appropriate representation from the four Census regions, urban and rural areas, and small and large practices. Selected physicians will receive a letter informing them of the purpose of the study and inviting them to participate. Within a week of receiving the invitation letter, respondents will receive an e-mail inviting them to complete a web-based questionnaire. A paper-based version of the questionnaire will be mailed to nonresponders after two weeks. Reminder phone calls will be placed in weeks four and six to all non-responders. If necessary to achieve target response rates, a re-mailing of the paper-based questionnaire will occur in week eight. The questionnaire is estimated to take no more than fifteen minutes to complete.

Estimated Annual Respondent Burden
Data collection effort | Number of respondents | Estimated time per respondent in hours | Estimated total burden hours
Primary care clinicians | 600 | .25 | 150

Estimated Costs to the Federal Government

The total cost to the government for this activity is estimated to be $129,956.

Request for Comments

In accordance with the above-cited legislation, comments on AHRQ's information collection are requested with regard to any of the following: (a) Whether the proposed collection of information is necessary for the proper performance of health care research and information dissemination functions of AHRQ, including whether the information will have practical utility; (b) the accuracy of AHRQ's estimate of burden (including hours and costs) of the proposed collection(s) of information; (c) ways to enhance the quality, utility, and clarity of the information to be collected; and (d) ways to minimize the burden of the collection of information upon the respondents, including the use of automated collection techniques or other forms of information technology.

Comments submitted in response to this notice will be summarized and included in the request for OMB approval of the proposed information collection. All comments will become a matter of public record.

Dated: July 24, 2006.
Carolyn M. Clancy,
Director.

[FR Doc. 06-6621 Filed 8-1-06; 8:45 am]

BILLING CODE 4160-90-M